DEPARTMENT OF ENERGY

Federal Energy Regulatory Commission

Combined Notice of Filings #1

August 14, 2007.

Take notice that the Commission received the following electric corporate filings:

Docket Numbers: EC07-124-000.

Applicants: J-POWER USA Generation, L.P.; Green Country Energy, LLC.

Description: J-Power USA Generation, LP and Green Country Energy, LLC submit its Joint Application for Authorization to Transfer Jurisdictional Facilities.

Filed Date: 08/06/2007.

Accession Number: 20070808-0158.

Comment Date: 5 p.m. Eastern Time on Monday, August 27, 2007.

Take notice that the Commission received the following electric rate filings:

Docket Numbers: ER93-3-006.

Applicants: The United Illuminating Company.

Description: The United Illuminating Company's request for exemption from requirements applicable to Category 2 Seller as discussed in Order 697 and FERC's implementing regulations.

Filed Date: 08/08/2007.

Accession Number: 20070813-0074.

Comment Date: 5 p.m. Eastern Time on Wednesday, August 29, 2007.

Docket Numbers: ER00-1026-015; ER99-2284-008; ER98-2185-013; ER99-1773-008; ER99-1761-004; ER98-2184-013; ER01-1315-004; ER01-2401-010; ER98-2186-014; ER00-33-010; ER05-442-002; ER98-4222-010; ER99-1228-006.

Applicants: Indianapolis Power & Light Company; AEE2, LLC; AES Alamitos, Inc.; AES Creative Resources, LP; EAS Eastern Energy LP; AES Huntington Beach, LLC; AES Ironwood, LLC; AES Red Oak, LLC; AES Redondo Beach, LLC; AES Placerita, Inc.; Condon Wind Power, LLC; Lake Benton Power Partners, LLC; Storm Lake Power Partners II LLC.

Description: AES Corp notifies FERC of a non-material change in status from the facts relied upon by granting market-based rate authority pursuant to Order 697.

Filed Date: 08/09/2007.

Accession Number: 20070813-0094.

Comment Date: 5 p.m. Eastern Time on Thursday, August 30, 2007.

Docket Numbers: ER01-751-008; ER99-3197-004; ER99-3077-004; ER92-521-002; ER04-1027-002; ER05-698-006.

Applicants: BIV Generation Company, LLC.; Colorado Power Partners; Hartwell Energy Limited Partnership; Mountain View Power Partners, LLC; Rocky Mountain Power, Inc.; San Joaquin Cogen, LLC.

Description: BIV Generation Co, LLC et al submits a notice of change in status pursuant to requirements of Order 652.

Filed Date: 08/09/2007.

Accession Number: 20070813-0091.

Comment Date: 5 p.m. Eastern Time on Thursday, August 30, 2007.

Docket Numbers: ER01-1807-026; ER01-2020-023.

Applicants: Carolina Power & Light Company; Florida Power Corporation.

Description: Energy Imbalance Revenues Refund Report of Carolina Power & Light Company.

Filed Date: 08/10/2007.

Accession Number: 20070810-5007.

Comment Date: 5 p.m. Eastern Time on Friday, August 31, 2007.

Docket Numbers: ER04-878-002; ER04-878-001.

Applicants: Equus Power I, L.P.

Description: Equus Power I, LP submits an amended triennial updated market power analysis.

Filed Date: 08/10/2007.

Accession Number: 20070813-0151.

Comment Date: 5 p.m. Eastern Time on Friday, August 31, 2007.

Docket Numbers: ER06-451-024.

Applicants: Southwest Power Pool, Inc.

Description: Southwest Power Pool Inc submits a status and compliance report re its efforts relating to demand-side resources and certain issues that exist.

Filed Date: 08/01/2007.

Accession Number: 20070808-0156.

Comment Date: 5 p.m. Eastern Time on Wednesday, August 22, 2007.

Docket Numbers: ER06-451-025; ER07-1255-000.

Applicants: Southwest Power Pool, Inc.

Description: Southwest Power Pool, Inc submits this filing providing for revisions to its Open Access Transmission Tariff pursuant to Section 205 of the Federal Power Act, 16 U.S.C., Part 35 of FERC's Regulations.

Filed Date: 08/03/2007.

Accession Number: 20070808-0057.

Comment Date: 5 p.m. Eastern Time on Friday, August 24, 2007.

Docket Numbers: ER07-643-002.

Applicants: Southwest Power Pool, Inc.

Description: Southwest Power Pool, Inc submits revised versions of the executed Meter Services Agreements that are consistent with the requirements of Order 614.

Filed Date: 08/09/2007.

Accession Number: 20070813-0093.

Comment Date: 5 p.m. Eastern Time on Thursday, August 30, 2007.

Docket Numbers: ER07-671-001.

Applicants: Trigen-St. Louis Energy Corporation.

Description: Compliance Filing pursuant to Commission's 7/13/07 Order.

Filed Date: 08/13/2007.

Accession Number: 20070810-5083.

Comment Date: 5 p.m. Eastern Time on Tuesday, September 04, 2007.

Docket Numbers: ER07-671-002.

Applicants: Trigen-St. Louis Energy Corporation.

Description: Trigen-St. Louis Energy Corp submits its Refund Report in accordance with the Commission's 7/13/07 Order.

Filed Date: 08/09/2007.

Accession Number: 20070813-0092.

Comment Date: 5 p.m. Eastern Time on Thursday, August 30, 2007.

Docket Numbers: ER07-812-001.

Applicants: Pacific Gas and Electric Company.

Description: Electric Refund Compliance Report of Pacific Gas & Electric Company.

Filed Date: 08/09/2007.

Accession Number: 20070809-5037.

Comment Date: 5 p.m. Eastern Time on Thursday, August 30, 2007.

Docket Numbers: ER07-909-001.

Applicants: PJM Interconnection, LLC.

Description: PJM Interconnection, LLC submits it response to FERC's request for additional information that identified deficiencies in their 5/18/07 filing.

Filed Date: 08/08/2007.

Accession Number: 20070809-0163.

Comment Date: 5 p.m. Eastern Time on Wednesday, August 29, 2007.

Docket Numbers: ER07-995-001.

Applicants: New York Independent System Operator, Inc.

Description: New York Independent System Operator, Inc revises its 6/4/07 request for waiver of certain of the “WEQ004” coordinate interchange business practice standards.

Filed Date: 08/08/2007.

Accession Number: 20070813-0077.

Comment Date: 5 p.m. Eastern Time on Wednesday, August 29, 2007.

Docket Numbers: ER07-1023-001.

Applicants: Baltimore Gas and Electric Company.

Description: Baltimore Gas and Electric Co submits its Substitute Second Revised Sheet 299 et al to FERC Electric Tariff, Sixth Revised Volume 1.

Filed Date: 08/06/2007.

Accession Number: 20070813-0153.

Comment Date: 5 p.m. Eastern Time on Monday, August 27, 2007.

Docket Numbers: ER07-1097-001.

Applicants: New England Power Pool Participants Committee.

Description: The New England Power Pool Participants Committee amends its 6/29/07 Membership Filing.

Filed Date: 08/10/2007.

Accession Number: 20070813-0152.

Comment Date: 5 p.m. Eastern Time on Friday, August 31, 2007.

Docket Numbers: ER07-1098-001.

Applicants: Southwest Power Pool, Inc.

Description: Southwest Power Pool, Inc submits Exhibit I of the Service Agreement with a corrected signature page.

Filed Date: 08/09/2007.

Accession Number: 20070810-0001.

Comment Date: 5 p.m. Eastern Time on Thursday, August 30, 2007.

Docket Numbers: ER07-1161-001.

Applicants: Public Power & Utility, Inc.

Description: Public Power & Utility, Inc submits a petition for acceptance of FERC Electric Tariff, Original Volume 1.

Filed Date: 08/08/2007.

Accession Number: 20070813-0075.

Comment Date: 5 p.m. Eastern Time on Wednesday, August 29, 2007.

Docket Numbers: ER07-1180-001.

Applicants: California Independent System Operator Corporation.

Description: California Independent System Operator Corp submits an errata to its 7/20/07 filing of a petition to waive sanctions for violation of Section 31.1.4.1 of its Tariff through 10/18/06.

Filed Date: 08/09/2007.

Accession Number: 20070813-0082.

Comment Date: 5 p.m. Eastern Time on Thursday, August 30, 2007.

Docket Numbers: ER07-1256-000.

Applicants: Kansas Gas and Electric Company.

Description: Kansas Gas and Electric Co submits a revised Generating Municipal Electric Service Agreement with the City of Chanute, Kansas under ER07-1256.

Filed Date: 08/08/2007.

Accession Number: 20070813-0078.

Comment Date: 5 p.m. Eastern Time on Wednesday, August 29, 2007.

Docket Numbers: ER07-1257-000.

Applicants: California Independent System Operator Corporation.

Description: California Independent System Operator Corp submits its modifications to its market redesign and technology upgrade tariff and supplemented this filing on 8/10/07.

Filed Date: 08/03/2007; 08/10/07.

Accession Number: 20070810-0036; 20070813-0172.

Comment Date: 5 p.m. Eastern Time on Friday, August 24, 2007.

Docket Numbers: ER07-1258-000.

Applicants: Rocky Mountain Power, LLC.

Description: Rocky Mountain Power, LLC submits a Notice of Succession.

Filed Date: 08/09/2007.

Accession Number: 20070810-0002.

Comment Date: 5 p.m. Eastern Time on Thursday, August 30, 2007.

Docket Numbers: ER07-1259-000.

Applicants: San Joaquin Cogen, LLC.

Description: San Joaquin Cogen, LLC submits a Notice of Succession.

Filed Date: 08/09/2007.

Accession Number: 20070810-0003.

Comment Date: 5 p.m. Eastern Time on Thursday, August 30, 2007.

Docket Numbers: ER07-1260-000.

Applicants: American Electric Power Service Corp.

Description: Ohio Power Co submits a Notice of Cancellation of Original Service Agreement 462 under FERC Electric Tariff Second Revised Volume 6, agreement with Northwest Fuel Development, Inc.

Filed Date: 08/07/2007.

Accession Number: 20070813-0087.

Comment Date: 5 p.m. Eastern Time on Tuesday, August 28, 2007.

Docket Numbers: ER07-1262-000.

Applicants: American Electric Power Service Corp.

Description: AEP Operating Companies submits an Interconnection and Local Delivery Service Agreement 1675 with the City of Jackson, Ohio.

Filed Date: 08/09/2007.

Accession Number: 20070813-0088.

Comment Date: 5 p.m. Eastern Time on Thursday, August 30, 2007.

Docket Numbers: ER07-1263-000.

Applicants: High Sierra Power Marketing, LLC.

Description: Sierra Power Asset Marketing, LLC submits an application for acceptance of their proposed market based rate tariff, FERC Electric Tariff, Original Volume 1.

Filed Date: 08/09/2007.

Accession Number: 20070813-0007.

Comment Date: 5 p.m. Eastern Time on Thursday, August 30, 2007.

Docket Numbers: ER07-1264-000.

Applicants: Sierra Power Asset Marketing, LLC.

Description: Sierra Power Asset Marketing, LLC submits an application for acceptance of their proposed market based rate tariff, FERC Electric Tariff, Original Volume 1.

Filed Date: 08/09/2007.

Accession Number: 20070813-0006.

Comment Date: 5 p.m. Eastern Time on Thursday, August 30, 2007.

Docket Numbers: ER07-1265-000.

Applicants: Southwest Power Pool, Inc.

Description: Southwest Power Pool, Inc submits an executed revised service agreement for Network Integration Transmission Service with Midwest Energy, Inc.

Filed Date: 08/09/2007.

Accession Number: 20070813-0005.

Comment Date: 5 p.m. Eastern Time on Thursday, August 30, 2007.

Docket Numbers: ER07-1266-000.

Applicants: Southwest Power Pool, Inc.

Description: Southwest Power Pool, Inc submits an executed revised service agreement for Network Integration Transmission Service with Midwest Energy, Inc.

Filed Date: 08/09/2007.

Accession Number: 20070813-0004.

Comment Date: 5 p.m. Eastern Time on Thursday, August 30, 2007.

Docket Numbers: ER07-1267-000.

Applicants: Arizona Public Service Company.

Description: Arizona Public Service Company submits a contract affecting transmission, an executed Transmission Operating and Maintenance Agreement with Southwest Transmission Coop, Inc.

Filed Date: 08/10/2007.

Accession Number: 20070813-0003.

Comment Date: 5 p.m. Eastern Time on Friday, August 31, 2007.

Docket Numbers: ER07-1268-000.

Applicants: PacifiCorp.

Description: PacifiCorp submits Supplement 1 to the 1998 Facilities Agreement, executed 8/17/06 and Supplement 2 to the 1998 Facilities Agreement, executed 5/21/07.

Filed Date: 08/10/2007.

Accession Number: 20070813-0002.

Comment Date: 5 p.m. Eastern Time on Friday, August 31, 2007.

Docket Numbers: ER07-1269-000.

Applicants: PacifiCorp.

Description: PacifiCorp submits First Revised Sheet 355 et al, FERC Electric Tariff, 7th Revised Volume 11 to its Open Access Transmission Tariff, reflecting updated load ratio share figures for 8/1/07-7/31/08.

Filed Date: 08/10/2007.

Accession Number: 20070813-0001.

Comment Date: 5 p.m. Eastern Time on Friday, August 31, 2007.

Docket Numbers: ER07-1270-000.

Applicants: Nevada Power Company.

Description: Nevada Power Co submits Rate Schedule 106—Power Purchase Agreement with Sierra Pacific Power Co.

Filed Date: 08/10/2007.

Accession Number: 20070813-0156.

Comment Date: 5 p.m. Eastern Time on Friday, August 31, 2007.

Take notice that the Commission received the following open access transmission tariff filings:

Docket Numbers: OA07-2-001.

Applicants: Sierra Pacific Resources Operating Company.

Description: Sierra Pacific Resources Operating Companies Order No. 890 OATT Imbalance Penalty Revenues Distribution Compliance Filing.

Filed Date: 08/10/2007.

Accession Number: 20070810-5042.

Comment Date: 5 p.m. Eastern Time on Friday, August 31, 2007.

Docket Numbers: OA07-5-001.

Applicants: Avista Corporation.

Description: Avista Corporation Compliance Filing Re July 13, 2007 Order in Docket.

Filed Date: 07/20/2007.

Accession Number: 20070720-5038.

Comment Date: 5 p.m. Eastern Time on Friday, August 24, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Acting Deputy Secretary.

[FR Doc. E7-16335 Filed 8-20-07; 8:45 am]

BILLING CODE 6717-01-P